DEPARTMENT OF HOMELAND SECURITY

Coast Guard

[USCG 2007-28460]

Long Range Aids to Navigation (LORAN-C) Program; Preparation of Programmatic Environmental Impact Statement

AGENCY: Coast Guard, DHS.

ACTION: Notice of intent, notice of public meeting, and request for public comments.

SUMMARY: The U.S. Coast Guard (USCG) announces that it intends to prepare a Programmatic Environmental Impact Statement (PEIS) on the Future of the Long Range Aids to Navigation (LORAN) Program. The current system (LORAN-C) is a low frequency hyperbolic radionavigation system approved for use in the U.S. Coastal Confluence Zone (CCZ) and as a supplemental air navigation aid. LORAN-C provides navigation, location, and timing services for both civil and military air, land, and marine users in the CONUS and Alaska. The PEIS will evaluate the environmental effects of alternative futures for the LORAN-C Program, and aid the USCG in its decision on whether to terminate or continue to operate and invest in the LORAN-C system.

Publication of this notice begins a scoping process that will identify and determine the scope of environmental issues to be addressed in the PEIS. This notice requests public participation in the scoping process, establishes a public comment period, and provides information on how to participate.

DATES: Public meetings will be held August 15, 21 and 23, 2007, in Washington, DC, Juneau, AK, and Seattle, WA, respectively. Each meeting will consist of an informational open house from 4:30 p.m. to 6 p.m. and a public scoping meeting from 6 p.m. to 8 p.m. The public meetings may end later than the stated time, depending on the number of persons wishing to speak. Comments and related material must reach the docket on or before August 31, 2007.

ADDRESSES: The Washington, DC meeting will be held at:

Ronald Reagan Building and International Trade Center 1300 Pennsylvania Avenue, NW., Washington, DC 20004, 202-312-1426.

The Seattle meeting will be held at: Seattle Hilton, 1301 Sixth Avenue, Seattle, WA 98101, (206) 695-6060.

The Juneau meeting will be held at: Centennial Hall Convention Center, 101 Egan Drive, Juneau, AK 99801, (907) 586-5283.

All meeting spaces will be wheelchair-accessible. You do not need to attend the meetings in order to comment. You may submit comments, identified by docket number USCG 2007-28460, to the Docket Management Facility at the U.S. Department of Transportation (DOT). To avoid duplication, please use only one of the following methods:

(1) Electronically through the Web site for the Docket Management System, at: http://dms.dot.gov.

(2) By mail to the Docket Management Facility, U.S. Department of Transportation, West Building, Ground Floor, Room W12-140, 1200 New Jersey Avenue, SE., Washington, DC 20590.

(3) By fax to the Docket Management Facility at (202) 493-2251.

(4) By delivery to Room W12-140, West Building, Ground Floor, 1200 New Jersey Avenue, SE., Washington, DC, from 9 a.m. to 5 p.m., Monday through Friday, except Federal holidays. The telephone number is (202) 366-9329.

(5) By the Federal eRulemaking Portal at: http://www.regulations.gov/.

The Docket Management Facility maintains the public docket for this notice. Comments and material received from the public will become part of this docket and will be available for inspection or copying at the Docket Management Facility (M-30), U.S. Department of Transportation, West Building Ground Floor, Room W12-140, 1200 New Jersey Avenue, SE., Washington, DC 20590, from 9 a.m. to 5 p.m., Monday through Friday, except Federal holidays. This docket may also be found on the Internet at: http://dms.dot.gov.

Comments and related material must reach the Docket Management Facility by August 31, 2007.

FOR FURTHER INFORMATION CONTACT: If you have questions on this notice, please call or e-mail LT Michael Herring, LORAN-C Program Manager, at (202) 372-1561, or Michael.L.Herring@uscg.mil, respectively. If you have questions about viewing or submitting material to the docket, please call Renee V. Wright, Program Manager, Docket Operations, Office of Information Services, Office of the Assistant Secretary for Administration, Office of the Secretary, at (202) 366-9826.

SUPPLEMENTARY INFORMATION:

Request for Comments

The USCG requests public comments and other relevant information on environmental issues related to the future of the LORAN-C Program. The scheduled public meetings are not the only opportunity you have to comment. In addition to or instead of providing comments at the meeting, you can submit comments to the Docket Management Facility during the public comment period (see DATES). The USCG will consider all comments and materials received during the comment period.

On January 8, 2007, the USCG published a request for comments on the need to continue to operate or invest in the North American LORAN-C radionavigation system (72 Federal Register 796). To avoid duplication and resubmission of comments, all comments previously submitted under docket USCG 2006-24685 will be considered during the LORAN-C PEIS scoping process.

All comments received will be posted, without change, to: http://dms.dot.gov and will include any personal information you have provided. The USCG has an agreement with the DOT to use the Docket Management Facility. Please see DOT's “Privacy Act” paragraph below.

Submitting comments: If you submit a comment, please include your name and address, and identify the docket number for this notice (USCG 2007-28460). You may submit your comments by electronic means, mail, fax, or delivery to the Docket Management Facility at the address under ADDRESSES; but please submit your comments by only one means. If you submit comments by mail or delivery, submit them in an unbound format, no larger than 8½ by 11 inches, suitable for copying and electronic filing. If you submit comments by mail and would like to confirm that they reached the Facility, please enclose a stamped, self-addressed postcard or envelope.

Viewing comments and documents: To view comments, go to: http://dms.dot.gov at any time, click on “Simple Search,” enter the last five digits of the docket number (28460), and click on “Search.” You may also visit the Docket Management Facility in the west building, Ground Floor, Room W12-140 located at 1200 New Jersey Avenue, SE., Washington, DC 20590. Docket contents are available for public inspection and copying, at this address, in room W12-140, between 9 a.m. and 5 p.m., Monday through Friday, except Federal holidays. The Facility's telephone is 202-366-9329, its fax is 202-493-2251, and its Web site for electronic submissions or for electronic access to docket contents is: http://dms.dot.gov.

Privacy Act: Anyone can search the electronic form of all comments received into any of our dockets by the name of the individual submitting the comment (or signing the comment, if submitted on behalf of an association, business, labor union, etc.). You may review the DOT's Privacy Act Statement in the Federal Register published on April 11, 2000 (65 FR 19477), or you may visit http://dms.dot.gov.

Public Meeting and Open House

The USCG invites you to learn about the PEIS on the Future of the LORAN-C Program at an informational open house, and to identify and comment on environmental issues related to the proposed action and alternatives at a public meeting. Your comments will help the USCG identify and refine the scope of the environmental issues to be addressed in the PEIS.

In order to allow everyone a chance to speak at the public meeting, the USCG may limit speaker time, or extend the meeting hours, or both. When you rise to speak, you must identify yourself, and any organization you represent, by name. Your remarks will be recorded or transcribed for inclusion in the public docket.

You may submit written material at the public meeting, either in place of or in addition to speaking. Written material must include your name and address, and will be included in the public docket. Comments given at a public meeting and written comments submitted to the docket will receive full and equal consideration.

The public meeting locations are wheelchair-accessible. If you plan to attend an open house or public meeting and need special assistance such as sign language interpretation or other reasonable accommodation, please notify the USCG (see FOR FURTHER INFORMATION CONTACT) at least 3 business days in advance. Include your contact information as well as information about your specific needs.

Background and Purpose

LORAN is a radionavigation system first developed during World War II and operated by the USCG. The current system (LORAN-C) is a low frequency hyperbolic radionavigation system approved for use in the CCZ and as a supplemental air navigation aid. LORAN-C provides navigation, location, and timing services for both civil and military air, land, and marine users in the Contiguous United States (CONUS) and Alaska. The USCG operates 18 CONUS LORAN Stations, 6 Alaska LORAN Stations, and 24 monitor sites. The system is controlled remotely from Alexandria, VA and Petaluma, CA. Nationwide system operation is based on links between “chains” of stations; therefore, decisions made on any one station may potentially impact multiple stations or chains, necessitating an overall LORAN system decision rather than a segmented approach.

The PEIS will evaluate the environmental effects of alternatives regarding the LORAN-C Program to aid the USCG in its decision of whether further investment in modernizing and improving LORAN-C is in the public interest.

The PEIS on the Future of the LORAN-C Program will be a program-level document that will provide USCG with high-level analysis of the potential impacts on the human environment from the alternatives for the future of the LORAN-C Program. The USCG is the lead agency for determining the scope of this review and has determined that a PEIS will best meet its needs. The PEIS will comply with the National Environmental Policy Act of 1969 (NEPA), the Council on Environmental Quality regulations in 40 CFR parts 1500-1508, Department of Homeland Security (DHS) Management Directive 5100.1 (Environmental Planning Program), and Coast Guard Commandant Instruction (COMDTINST) M16475.1D (National Environmental Policy Act Implementing Procedures and Policy for Considering Environmental Impacts). The geographic scope of the LORAN-C PEIS is those areas covered by the radionavigation system. Should the USCG decide to end its involvement with LORAN-C, the analysis provided in the PEIS will enable the USCG to prepare tiered documents on the disposition of each LORAN Station and monitoring station.

Proposed Action and Alternatives

The PEIS will address the following four alternatives to represent the range of possible management options for the future of the USCG LORAN-C Program:

(1) Decommission the USCG LORAN-C Program and Terminate North American LORAN-C Signal. Under this alternative, all USCG LORAN-C signals would be terminated at one time. All USCG LORAN Stations would be decommissioned; LORAN artifacts, documents and equipment (i.e., towers and related infrastructure) would be removed; and USCG personnel would be reassigned. LORAN Station property would be declared excess to the needs of the USCG following Federal guidelines on transfer of excess property. The disposition of each LORAN Station would range from transferring ownership of the property with such infrastructure as buildings, roads, piers, and airstrips intact, to returning the property to a natural state prior to its transfer.

(2) Transfer Management of the LORAN-C Program to another government agency. Under this alternative, the USCG would continue to operate the LORAN-C Program until the transfer to another Agency.

(3) Automate, Secure, and Unstaff LORAN Stations. Under this alternative, the USCG would continue to operate the LORAN-C Program. The LORAN-C signal would remain on the air but the USCG would reduce staffing. To the extent practical, the USCG would automate equipment; secure buildings and fencing to protect equipment, antenna, and antenna guides; and reassign personnel. The LORAN Stations would become LORAN Sites operating unstaffed with preventive and corrective maintenance performed by contractor personnel.

(4) No Action Alternative. The LORAN-C signal would remain on air, and LORAN-C operations would remain as they currently are with no change in staffing. Maintenance and modernization of equipment would continue to keep the signal operating.

The PEIS will serve as a top tier environmental analysis of program-level changes. This notice of intent is required by 40 CFR 1508.22, and briefly describes the proposed action and possible alternatives and our proposed scoping process. The PEIS will provide a general level of analysis of environmental impacts on the 24 LORAN Stations, 24 Monitoring Sites, and the LORAN Support Unit (LSU) since the disposition of each facility is not currently known. The PEIS will also discuss the No Action Alternative as required under NEPA. You can address any questions about the proposed action, the scoping process, or the PEIS to the USCG LORAN-C Program Office (see FOR FURTHER INFORMATION CONTACT).

Scoping Process

Public scoping is an early and open process for identifying and determining the scope of issues to be addressed in the PEIS. Scoping begins with this notice, continues through the public comment period (see DATES), and ends when the USCG has completed the following actions:

• Invites the participation of Federal, State, and local agencies, any affected Indian tribe and other interested persons;

• Determines the actions, alternatives, and impacts described in 40 CFR 1508.25;

• Identifies and eliminates from detailed study those issues that are not significant or that have been covered elsewhere;

• Identifies other relevant environmental review and consultation requirements on the future of the LORAN-C Program;

• Indicates the relationship between timing of the environmental review and other aspects of the proposed action; and

• At its discretion, exercises the options provided in 40 CFR 1501.7(b).

Once the scoping process is complete, the USCG will prepare a draft PEIS, and will publish a Federal Register notice announcing its public availability. (If you want that notice to be sent to you, please contact the USCG Project Office point-of-contact identified in FOR FURTHER INFORMATION CONTACT.) You will have an opportunity to review and comment on the draft PEIS. Additionally, the USCG anticipates holding public meetings in approximately December 2007 to present the draft PEIS and receive public comments regarding that document. The USCG will subsequently consider all comments received and then prepare the final PEIS. As with the draft PEIS, the USCG will announce the availability of the final PEIS and once again give interested parties an opportunity for review and comment.

Dated: June 26, 2007.
Brian M. Salerno,
Rear Admiral USCG, Assistant Commandant, Policy and Planning (CG-5).

[FR Doc. 07-3475 Filed 7-12-07; 3:13 pm]

BILLING CODE 4910-15-P